DEPARTMENT OF HOMELAND SECURITY

Coast Guard

33 CFR Part 165

[Docket No. USCG-2010-0063]

RIN 1625-AA00

Safety Zones; Annual Firework Displays Within the Captain of the Port, Puget Sound Area of Responsibility

AGENCY: Coast Guard, DHS.

ACTION: Final rule.

SUMMARY: The Coast Guard is establishing permanent safety zones to ensure public safety during annual firework displays at various locations in the Captain of the Port (COTP), Puget Sound Area of Responsibility (AOR). When these safety zones are activated, and thus subject to enforcement, this rule restricts the movement of vessels within the established firework display areas. This action is necessary to prevent injury and to protect life and property of the maritime public from the hazards associated with firework displays. Entry into, transit through, mooring, or anchoring within these zones during times of enforcement is prohibited unless authorized by the Captain of the Port, Puget Sound or Designated Representative.

DATES: This rule is effective June 15, 2010.

ADDRESSES: Comments and material received from the public, as well as documents mentioned in this preamble as being available in the docket, are part of docket USCG-2010-0063 and are available online by going to http://www.regulations.gov, inserting USCG-2010-0063 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ensign Ashley M. Wanzer, USCG Sector Seattle Waterways Management Division, Coast Guard; telephone 206-217-6175, e-mail SectorSeattleWWM@uscg.mil. If you have questions on viewing the docket, call Renee V. Wright, Program Manager, Docket Operations, telephone 202-366-9826.

SUPPLEMENTARY INFORMATION:

Regulatory Information

On February 25, 2010, we published a notice of proposed rulemaking (NPRM) entitled Safety Zones; Annual Firework Displays within the Captain of the Port, Puget Sound Area of Responsibility in the Federal Register (75 FR 8566). We did not receive any comments on the proposed rule. We also did not receive any requests for a public meeting; therefore, a public meeting was not held.

Under 5 U.S.C. 553(d)(3), the Coast Guard finds that good cause exists for making this rule effective less than 30 days after publication in the Federal Register. Immediate action is necessary to protect life, property and the environment; therefore, a 30-day notice is impracticable. Delaying the effective date would be contrary to these safety zones' intended objective of protecting persons and vessels involved in the fireworks events.

Basis and Purpose

The U.S. Coast Guard is establishing permanent safety zones to ensure public safety during annual firework shows occurring within the Captain of the Port, Puget Sound, WA, AOR. This action is necessary in order to restrict vessel movement and reduce vessel congregation in the proximity of firework discharge sites ensuring maritime public safety.

Coast Guard typically receives numerous applications in these geographic areas for firework displays. Currently, temporary safety zones are established on an emergency basis for each individual display thereby limiting opportunity for public comment. Establishing permanent safety zones through notice and comment rulemaking provided the public the opportunity to comment on the safety zone locations, size and length of time each zone will be enforced. Additionally, this final rule includes a variety of locations and date ranges to allow for speedy and safe activation of permanent safety zones. Firework displays occur in these locations and on these dates with regularity. The establishment of multiple permanent safety zones provides enhanced public safety measures by reducing the number of emergency safety zones needed for firework displays. Notification of the specific dates and time for activation of safety zones will be available to the maritime public.

Each year organizations sponsor firework displays in the same general location and time period. Each event uses a barge, a tug and a barge, or an on-shore site near the shoreline as the fireworks launch platform. A safety zone is used to control vessel movement within a specified distance surrounding the launch platforms to ensure the safety of persons and property. An on-scene patrol commander may allow persons within the safety zone if conditions permit.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. This rule is not a significant regulatory action because the period of enforcement and size of these safety zones are minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit a portion of the affected waterways while this rule is enforced. These safety zones will not have significant economic impact on a substantial number of small entities for the following reasons: The safety zones included in this rule will be in effect for a short duration when vessel traffic volume is low and are limited in size. If safe to do so, traffic will be allowed to pass through these safety zones with the permission of the Captain of the Port or Designated Representative.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA)(42 U.S.C. 4321-4370f), and have concluded this action is one of a category of actions that do not individually or cumulatively have a significant effect on the human environment. This rule is categorically excluded, under figure 2-1, paragraph (34)(g), of the Instruction. This rule involves the establishment of safety zones around firework display sites within the COTP Puget Sound AOR. Each event will individually comply with NEPA requirements on an annual basis as ensured through the submittal of an annual marine event permit. We seek any comments or information that may lead to the discovery of a significant environmental impact from this rule.

An environmental analysis checklist and a categorical exclusion determination are available in the docket where indicated under ADDRESSES.

List of Subjects in 33 CFR Part 165

Harbors, Marine safety, Navigation (water), Reporting and record keeping requirements, Security measures, Waterways.

For the reasons discussed in the preamble, the Coast Guard amends 33 CFR part 165, as follows:

PART 165—REGULATED NAVIGATION AREAS AND LIMITED ACCESS AREAS

1. The authority citation for part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1

2. Add § 165.1332 to read as follows:

§ Safety Zones; Annual Firework Displays within the Captain of the Port, Puget Sound Area of Responsibility.

(a) Safety Zones. The following areas are designated safety zones: (1) All waters of Puget Sound, Washington, extending to a 450 yard radius from the following launch sites:

Captain of the Port Puget Sound AOR Annual Firework Displays
Event name (typically) | Event location | Latitude | Longitude
Steilacoom Annual Fireworks | Steilacoom | 47° 10.4′ N | 122° 36.2′ W
Tacoma Freedom Fair | Commencement Bay | 47° 16.817′ N | 122° 27.933′ W
City of Anacortes Fireworks | Fidalgo Bay | 47° 17.1′ N | 122° 28.4′ W
Alderbrook Resort & Spa Fireworks | Hood Canal | 47° 21.033′ N | 123° 04.1′ W
Fireworks Display | Henderson Bay | 47° 21.8′ N | 122° 38.367′ W
Des Moines Fireworks | Des Moines | 47° 24.117′ N | 122° 20.033′ W
Three Tree Point Community Fireworks | Three Tree Point | 47° 27.033′ N | 122° 23.15′ W
City of Renton Fireworks | Renton, Lake Washington | 47° 29.986′ N | 122° 11.85′ W
Port Orchard Fireworks | Port Orchard | 47° 32.883′ N | 122° 37.917′ W
Chimes and Lights | Port Orchard | 47° 32.75′ N | 122° 38.033′ W
Seattle Seafair | Lake Washington | 47° 34.333′ N | 122° 16.017′ W
Mercer Island Celebration | Mercer Island | 47° 35.517′ N | 122° 13.233′ W
Medina Days | Medina Park | 47° 36.867′ N | 122° 14.5′ W
Bainbridge Island Fireworks | Eagle Harbor | 47° 37.267′ N | 122° 31.583′ W
Whaling Days | Dyes Inlet | 47° 38.65′ N | 122° 41.35′ W
Yarrow Point Community | Yarrow Point | 47° 38.727′ N | 122° 13.466′ W
City of Kenmore Fireworks | Lake Forest Park | 47° 39.0′ N | 122° 13.55′ W
Kirkland Concours D'Elegence | Kirkland | 47° 39.521′ N | 122° 12.439′ W
Kirkland Fireworks | Kirkland | 47° 40.583′ N | 122° 12.84′ W
Liberty Bay Fireworks | Liberty Bay | 47° 43.917′ N | 122° 39.133′ W
Sheridan Beach Community | Lake Forest Park | 47° 44.783′ N | 122° 16.917′ W
Langlie's Old Fashioned Independence Celebration | Indianola | 47° 44.817′ N | 122° 31.533′ W
Lake Forest Park Fireworks | Lake Forest Park | 47° 45.117′ N | 122° 16.367′ W
Vashon Island Fireworks | Quartermaster Harbor | 47° 45.25′ N | 122° 15.75′ W
Kingston Fireworks | Appletree Cove | 47° 47.65′ N | 122° 29.917′ W
Mukilteo Lighthouse Festival | Possession Sound | 47° 56.9′ N | 122° 18.6′ W
Brewster Fire Department Fireworks | Brewster | 48° 06.367′ N | 119° 47.15′ W
Port Angeles | Port Angeles Harbor | 48° 07.033′ N | 123° 24.967′ W
Port Townsend Sunrise Rotary | Port Townsend | 48° 08.067′ N | 122° 46.467′ W
Friday Harbor Independence | Friday Harbor | 48° 32.6′ N | 122° 00.467′ W
Roche Harbor Fireworks | Roche Harbor | 48° 36.7′ N | 123° 09.5′ W
Deer Harbor Annual Fireworks Display | Deer Harbor | 48° 37.0′ N | 123° 00.25′ W.
Orcas Island | Orcas Island | 48° 41.317′ N | 122° 54.467′ W
Blast Over Bellingham | Bellingham Bay | 48° 44.933′ N | 122° 29.667′ W
True Colors Event | Blaine | 48° 59.488′ N | 122° 46.339′ W
John Eddy Wedding | Magnolia Bluff | 49° 38.988′ N | 122° 25.356′ W
City of Mount Vernon Fireworks | Edgewater Park | 48° 25.178′ N | 122° 20.424′ W
Chase Family Fourth at Lake Union | Lake Union | 47° 38.418′ N | 122° 20.111′ W

(2) [RESERVED]

(b) Special Requirements. Firework barges or launch sites on land used in locations stated in this rule shall display a sign. The sign will be affixed to the port and starboard side of the barge or mounted on a post 3 feet above ground level when on land and in close proximity to the shoreline facing the water labeled “FIREWORKS-DANGER-STAY AWAY.” This will provide on-scene notice that the safety zone is, or will, be enforced on that day. This notice will consist of a diamond shaped sign, 4 foot by 4 foot, with a 3 inch orange retro-reflective border. The word “DANGER' shall be 10 inch black block letters centered on the sign with the words “FIREWORKS” and “STAY AWAY” in 6 inch black block letters placed above and below the word “DANGER” respectively on a white background. An on-scene patrol vessel will enforce these safety zones 30 minutes prior to the start and 30 minutes after the conclusion of the fireworks display.

(c) Notice of Enforcement. These safety zones will be activated and thus subject to enforcement, under the following conditions: the Coast Guard must receive and approve a marine event permit for each firework display and then the Captain of the Port will cause notice of the enforcement of these safety zones to be made by all appropriate means to provide notice to the affected segments of the public as practicable, in accordance with 33 CFR 165.7(a). The Captain of the Port will issue a Broadcast Notice to Mariners and Local Notice to Mariners notifying the public of activation and suspension of enforcement of these safety zones. Additionally, an on-scene Patrol Commander will ensure enforcement of this safety zone by limiting the transit of non-participating vessels in the designated areas described above.

(d) Regulations. In accordance with the general regulations in 33 CFR part 165, subpart C, no vessel operator may enter, transit, moor, or anchor within this safety zone, except for vessels authorized by the Captain of the Port or Designated Representative.

(e) Authorization. All vessel operators who desire to enter the safety zone must obtain permission from the Captain of the Port or Designated Representative by contacting either the on-scene patrol craft on VHF Ch 13 or Ch 16 or the Coast Guard Sector Seattle Joint Harbor Operations Center (JHOC) via telephone at (206) 217-6002.

(f) Enforcement Period. This rule will be enforced from 5 p.m. until 1 a.m. each day a barge with a “FIREWORKS-DANGER-STAY AWAY” sign is located within any of the above designated safety zone locations and meets the criteria established in section (b), within the following timeframes:

(1) The last two weeks of December until the conclusion of the first weekend of January.

(2) The last weekend of June until the conclusion of the third week of July.

(3) The second weekend of August until the conclusion of the fourth week of August.

(4) The first weekend of September until the conclusion of the third week of September.

(5) The first weekend of December.

(g) Contact Information. Questions about safety zones and related events should be addressed to COMMANDER (spw), U.S. COAST GUARD SECTOR, Attention: Waterways Management Division, 1519 Alaskan Way South, Seattle, WA 98134-1192.

Dated: May 27, 2010.
S.W. Bornemann,
Captain, U.S. Coast Guard, Captain of the Port, Puget Sound.

[FR Doc. 2010-14296 Filed 6-14-10; 8:45 am]

BILLING CODE 9110-04-P